SMALL BUSINESS ADMINISTRATION

Military Reservist Economic Injury Disaster Loans, Interest Rates for Third Quarter FY 2003

In accordance with the Code of Federal Regulations 13—Business Credit and Assistance § 123.512, the following interest rate is effective for Military Reservist Economic Injury Disaster Loans approved on or after April 14, 2003.

Military Reservist Loan Program—2.953%

Dated: April 10, 2003.
Herbert L. Mitchell,
Associate Administrator for Disaster Assistance.

[FR Doc. 03-9296 Filed 4-15-03; 8:45 am]

BILLING CODE 8025-01-P